DEPARTMENT OF LABOR

Mine Safety and Health Administration

Petitions for Modification of Application of Existing Mandatory Safety Standards

AGENCY: Mine Safety and Health Administration, Labor.

ACTION: Notice.

SUMMARY: This notice is a summary of petitions for modification submitted to the Mine Safety and Health Administration (MSHA) by the parties listed below.

DATES: All comments on the petitions must be received by MSHA's Office of Standards, Regulations, and Variances on or before November 14, 2019.

ADDRESSES: You may submit your comments, identified by “docket number” on the subject line, by any of the following methods:

1. Electronic Mail: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petition and comments during normal business hours at the address listed above.

MSHA will consider only comments postmarked by the U.S. Postal Service or proof of delivery from another delivery service such as UPS or Federal Express on or before the deadline for comments.

FOR FURTHER INFORMATION CONTACT: Sheila McConnell, Office of Standards, Regulations, and Variances at 202-693-9440 (voice), McConnell.Sheila.A@dol.gov (email), or 202-693-9441 (facsimile). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petitions for Modification

Docket Number: M-2019-053-C.

Petitioner: Wolf Run Mining LLC, Sentinel Complex, 21550 Barbour County Hwy., Philippi, WV 26416.

Mines: Sentinel Mine, MSHA I.D. No. 46-04168, located in Barbour County, WV.

Regulation Affected: 30 CFR 75.336(a)(1)(i) (Sampling and monitoring requirements).

Modification Request: The petitioner requests a modification of the existing standard that requires sealed areas with less than 120-psi seal strength constructed before October 20, 2008, must be monitored, whether ingassing or outgassing, for methane and oxygen concentrations and the direction of leakage at least every 24 hours.

The petitioner states that:

(1) The ventilation seals in place at the mine that are the subject of this petition meet or exceed the strength requirements of 30 CFR 75.335(a)(2)(i) for 120-psi rated seals and that all evaluations have been made to conclude that this seal type, rating, and construction are suitable for the mine conditions where the ventilation seals are installed.

(2) The existing seals in the mine between the Lower Kittanning and Clarion workings were constructed during a moratorium on seal construction between 2006 and 2008. To comply with MSHA standards and anticipating future standards requiring stronger seals, seals were proposed and designed by the operator and approved by MSHA in the operator's ventilation plan. The installed seals were Mitchell-Barrett seals that were enhanced to increase the strength of the structures. These are referred to as Super-Mitchell seals. At least one of the forms for the concrete plug seal was a Super-Mitchell seal where these seals were installed.

(3) The Super-Mitchell seals were installed in the approach to the return and intake shafts between the Lower Kittanning and Clarion workings. After the seals were finished and the shafts had been excavated, the space between the Super-Mitchell seals and the shaft wall inside diameter was filled with a reinforced concrete structure, a concrete plug seal, as part of the shaft concrete lining process. This concrete plug seal provided a second continuous seal structure which is nearly identical to the MSHA-approved seal design, Approval Number 120M-03.0 and the plug seal formula from the NIOSH IC 9500, “Explosion Pressure Design Criteria for New Seals in U.S. Coal Mines.”

(4) The openings in the Lower Kittanning seam were sealed with Super-Mitchell seals and the concrete plug seal. In consultation with MSHA, the operator designated one seal at the turnout as the lowest seal in the set and that seal was outfitted with a water trap and sample pipe. The mine has an approved UIC permit which requires monitoring and control of the water levels in the sealed workings.

(5) Under the current standards, these seals are treated as 50-psi seals.

As an alternative to the existing standard, the petitioner proposes the following:

(a) The eleven seals separating the Lower Kittanning and Clarion workings have a strength of at least the 120-psi seal required by the standard and should be treated as 120-psi seals under the current standards.

(b) Documentation of the seals' design and construction are available at the mine.

The petitioner asserts that the alternative method will guarantee no less than the same measure of protection for all miners than that of the existing standard.

Sheila McConnell,
Director, Office of Standards, Regulations, and Variances.

[FR Doc. 2019-22420 Filed 10-11-19; 8:45 am]

BILLING CODE 4520-43-P